DEPARTMENT OF COMMERCE

International Trade Administration

[C-427-819]

Final Results of Countervailing Duty Administrative Review: Low Enriched Uranium from France

AGENCY: Import Administration, International Trade Administration, Department of Commerce.

ACTION: Notice of Final Results of Countervailing Duty Administrative Review.

SUMMARY: On February 5, 2004, the Department of Commerce (the Department) published in the Federal Register its preliminary results of administrative review of the countervailing duty (CVD) order on low enriched uranium from France for the period May 14, 2001, through December 31, 2002 (see Preliminary Results of Countervailing Duty Administrative Reviews: Low Enriched Uranium from France, 69 FR 5502 (February 5, 2004) (Preliminary Results)). The Department has now completed the administrative review in accordance with section 751(a) of the Tariff Act of 1930, as amended (the Act).

Based on information received since the Preliminary Results and our analysis of the comments received, the Department has revised the net subsidy rate for Eurodif S.A. (Eurodif)/Compagnie Generale Des Matieres Nucleaires (COGEMA), the producer/exporter of subject merchandise covered by this review. For further discussion of the changes we have made since the Preliminary Results, see the “Issues and Decision Memorandum from Gary Taverman, Acting Deputy Assistant Secretary for Import Administration to Jeffrey May, Acting Assistant Secretary for Import Administration concerning the Final Results of Countervailing Duty Administrative Reviews: Low Enriched Uranium from France” (Decision Memorandum) dated June 30, 2004. The final net subsidy rate for Eurodif/COGEMA is listed below in the section entitled “Final Results of Reviews.”

EFFECTIVE DATE: July 7, 2004.

FOR FURTHER INFORMATION CONTACT: Carrie Farley or Tipten Troidl, Office of AD/CVD Enforcement III, Import Administration, U.S. Department of Commerce, Room 4012, 14th Street and Constitution Avenue, NW, Washington, DC 20230; telephone: (202) 482-2786.

SUPPLEMENTARY INFORMATION:

Background

On February 5, 2004, the Department published in the Federal Register its Preliminary Results. We invited interested parties to comment on the results. On March 9, 2004, we received case briefs from petitioners and respondents. In their case briefs, petitioners and respondents requested a hearing. On March 16, 2004, we received rebuttal briefs from petitioners¹ and respondents². On March 18, 2004, respondents and petitioners withdrew their request for a hearing. Pursuant to 19 CFR 351.213(b), this review covers only those producers or exporters of the subject merchandise for which a review was specifically requested. Accordingly, this review covers Eurodif/COGEMA. The review covers the period May 14, 2001, through December 31, 2002, and two programs.

¹ Petitioners are the United States Enrichment Corporation (USEC) and USEC Inc.

² Respondents are Eurodif and COGEMA.

Scope of Review

For purposes of this review, the product covered is all low enriched uranium (LEU). LEU is enriched uranium hexafluoride (UF6) with a U235 product assay of less than 20 percent that has not been converted into another chemical form, such as UO2, or fabricated into nuclear fuel assemblies, regardless of the means by which the LEU is produced (including LEU produced through the down-blending of highly enriched uranium).

Certain merchandise is outside the scope of this order. Specifically, this order does not cover enriched uranium hexafluoride with a U235 assay of 20 percent or greater, also known as highly enriched uranium. In addition, fabricated LEU is not covered by the scope of this order. For purposes of this order, fabricated uranium is defined as enriched uranium dioxide (UO2), whether or not contained in nuclear fuel rods or assemblies. Natural uranium concentrates (U3O8) with a U235 concentration of no greater than 0.711 percent and natural uranium concentrates converted into uranium hexafluoride with a U235 concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end- user.

The merchandise subject to this order is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Analysis of Comments Received

All issues raised in the case and rebuttal briefs by parties to these reviews are addressed in the Decision Memorandum, which is hereby adopted by this notice. A list of the issues contained in the Decision Memorandum is attached to this notice as Appendix I. Parties can find a complete discussion of all issues raised in these reviews and the corresponding recommendations in this public memorandum, which is on file in the Central Records Unit (CRU), room B-099 of the Main Commerce Building. In addition, a complete version of the Decision Memorandum can be accessed directly on the World Wide Web at http://ia.ita.doc.gov, under the heading “Federal Register Notices.” The paper copy and electronic version of the Decision Memorandum are identical in content.

Final Results of Reviews

In accordance with section 705(c)(1)(B)(i) of the Act, we calculated an ad valorem subsidy rate for Eurodif/COGEMA for calendar years 2001 and 2002. For 2001, we determine the net subsidy rate to be 3.63 percent ad valorem, and for 2002, we determine the net subsidy rate to be 0.71 percent ad valorem.

We will instruct U.S. Customs and Border Protection (CBP), within 15 days of publication of the final results of these reviews, to liquidate shipments of low enriched uranium by Eurodif/COGEMA entered, or withdrawn from warehouse, for consumption from May 14, 2001, through September 10, 2001, at 3.63 percent ad valorem and from February 13, 2002, through December 31, 2002, at 0.71 percent ad valorem of the f.o.b. invoice price. We have determined that the cash deposit rate for future Eurodif/COGEMA imports should be set at 0.71. Therefore, Department also will instruct CBP to collect cash deposits of estimated countervailing duties at 0.71 percent ad valorem of the f.o.b. invoice price on all shipments of the subject merchandise from the reviewed entity, entered, or withdrawn from warehouse, for consumption on or after the date of publication of the final results of these reviews. In addition, for the periods May 14, 2001, through September 10, 2001, and February 13, 2002, through December 31, 2002, the assessment rates applicable to all non-reviewed companies covered by this order are the cash deposit rates in effect at the time of entry.

Because the Uruguay Round Agreements Act (URAA) replaced the general rule in favor of a country-wide rate with a general rule in favor of individual rates for investigated and reviewed companies, the procedures for establishing countervailing duty rates, including those for non-reviewed companies, are now essentially the same as those in antidumping cases, except as provided for in section 777A(e)(2) of the Act. The requested review will normally cover only those companies specifically named. See 19 CFR 351.213(b). Pursuant to 19 CFR 351.212(c), for all companies for which a review was not requested, duties must be assessed at the cash deposit rate, and cash deposits must continue to be collected, at the rate previously ordered. As such, the countervailing duty cash deposit rate applicable to a company can no longer change, except pursuant to a request for a review of that company. See Federal-Mogul Corporation and The Torrington Company v. United States, 822 F. Supp. 782 (CIT 1993) and Floral Trade Council v. United States, 822 F. Supp. 766 (CIT 1993). Therefore, the cash deposit rates for all companies except those covered by these reviews will be unchanged by the results of this review.

We will instruct CBP to continue to collect cash deposits for non-reviewed companies at the most recent company-specific or country-wide rate applicable to the company. Accordingly, the cash deposit rates that will be applied to non-reviewed companies covered by this order will be the rate for that company established in the most recently completed administrative proceeding conducted under the URAA. See Notice of Amended Final Determination and Notice of Countervailing Duty Order: Low Enriched Uranium From France, 67 FR 6689 (February 13, 2002). This rate shall apply to all non-reviewed companies until a review of a company assigned this rate is requested. In addition, for the period May 14, 2001, through December 31, 2002, the assessment rates applicable to all non-reviewed companies covered by these orders are the cash deposit rates in effect at the time of entry.

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This administrative review and this notice are issued and published in accordance with section 751(a)(1) of the Act.

Dated: June 30, 2004.
Jeffrey May,
Acting Assistant Secretary for Import Administration.

Appendix I—Issues and Decision Memorandum

I. Subsidies Valuation Information

A. Calculation of Ad Valorem Rates

II. Analysis of Programs

A. Programs Determined to Confer Subsidies

1. Purchases at Prices that Constitute More than Adequate Remuneration

2. Exoneration/Reimbursement of Corporate Income Taxes

III. Total Ad Valorem Rate

IV. Analysis of Comments

Comment 1: Currency Conversion Errors

Comment 2: Electricite de France's purchases from Eurodif made at More than Adequate Remuneration

Comment 3: Benchmark used for More than Adequate Remuneration Program

Comment 4: Inclusion of Pre-POR Transactions in the Subsidy Calculation

Comment 5: Additional Benefit from Transaction

Comment 6: Tax Benefit

Comment 7: Draft Customs Instructions

Comment 8: Total Sales

Comment 9: “Part Energie” Charges for 2002

Comment 10: Use of Separative Work Units Delivered for the Calculation of Part Usine

Comment 11: Comparison between Prices Paid by EdF to Eurodif and to other Suppliers

Comment 12: Changes to Calculations if the CIT Sustains USEC's Appeal

[FR Doc. 04-15413 Filed 7-6-02; 8:45 am]

BILLING CODE 3510-DS-S